DEPARTMENT OF TRANSPORTATION

Federal Aviation Administration

Membership in the National Parks Overflights Advisory Group

AGENCY: Federal Aviation Administration, DOT.

ACTION: Notice.

SUMMARY: By Federal Register notice (See 71 FR 16610; April 3, 2006), the National Park Service (NPS) and the Federal Aviation Administration (FAA), asked interested persons to apply to fill six vacant positions on the National Parks Overflights Advisory Group (NPOAG) Aviation Rulemaking Committee (ARC). The vacancies represent general aviation (one vacancy), commercial air tour operators (two vacancies), environmental concerns (two vacancies) and Native American tribes (one vacancy), and invited interested persons to apply to fill the vacancies due to completion (October 9, 2006) of a three-year term appointment. This notice informs the public of the persons selected to fill the vacancies on the NPOAG ARC.

FOR FURTHER INFORMATION CONTACT: Barry Brayer, Executive Resource Staff, Western-Pacific Region Headquarters, 15000 Aviation Blvd., Hawthorne, CA 90250, telephone: (310) 725-3800, e-mail: Barry.Brayer@faa.gov, or Karen Trevino, National Park Service, Natural Sounds Program, 1201 Oakridge Dr., Suite 350, Ft. Collins, CO 80525, telephone (970) 225-3563, or Karen_Trevino@nps.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator and the Director (or their designees) serve as ex officio members of the group. Representatives of the Administrator and Director serve alternating 1-year terms as chairman of the advisory group.

The advisory group provides ”advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Changes in Membership

Current members of the NPOAG ARC are as follows:

Heidi Williams representing general aviation.

Richard Larew, Alan Stephen, and Elling Halvorson representing commercial air tour operations.

Chip Dennerlein, Don Barger, Charles Maynard, and Mark Peterson representing environmental interests.

Rory Majenty and Richard Deertrack representing Native American tribes.

To maintain the balanced representation of the group, the FAA and the NPS recently published a notice in the Federal Register (See 71 FR 16610; April 3, 2006) asking interested persons to apply to fill the following vacancies on the NPOAG as follows:

General aviation (one vacancy)

Commercial air tour operators (two vacancies)

Environmental interests (two vacancies)

Native American tribes (one vacancy)

New members beginning October 10, 2006, are Matthew Zuccaro and Dr. Gregory A. Miller, vice Richard Larew and Charles Maynard respectively; returning members selected to fill the vacancies for additional terms are Heidi Williams, Richard Deertrack, Chip Dennerlein, and Alan Stephen.

Issued in Hawthorne, California, on October 4, 2006.
Lynore C. Brekke,
Acting Regional Administrator, Western-Pacific Region.

[FR Doc. E6-17030 Filed 10-12-06; 8:45 am]

BILLING CODE 4910-13-P